FEDERAL COMMUNICATIONS COMMISSION

47 CFR Parts 25, 73, and 76

[MB Docket Nos. 17-317, 17-105; FCC 19-69; FRS 16539]

Carriage Election Notification Procedures

AGENCY: Federal Communications Commission.

ACTION: Final rule; announcement of compliance date.

SUMMARY: In this document, the Commission announces that the Office of Management and Budget (OMB) has approved the information collections associated with the carriage election procedures adopted in the Commission's 2019 CEN Order, FCC 19-69, and that compliance with the modified rules is now required. This document is consistent with the 2019 CEN Order, FCC 19-69, which states that the Commission will publish a document in the Federal Register announcing a compliance date for the modified rule sections and revise the rule accordingly.

DATES: Compliance date: Compliance with 47 CFR 25.701, 73.3526, 73.3527, 76.64, and 76.66(d), published at 84 FR 45659 on August 30, 2019, is required on March 24, 2020.

FOR FURTHER INFORMATION CONTACT: Lyle Elder, Policy Division, Media Bureau, at (202) 418-2120 or lyle.elder@fcc.gov.

SUPPLEMENTARY INFORMATION: This document announces that OMB approved the information collection requirements in §§ 25.701, 73.3526, 73.3527, 76.64, and 76.66(d) on February 27, 2020. These rules were modified in the 2019 CEN Order, FCC 19-69, published at 84 FR 45659 on August 30, 2019. The Commission publishes this document as an announcement of the compliance date of the rules. The other rule amendments adopted in the 2019 CEN Order, which did not require OMB approval, required compliance as of October 29, 2019.

If you have any comments on the burden estimates listed below, or how the Commission can improve the collections and reduce any burdens caused thereby, please contact Cathy Williams, Federal Communications Commission, Room 1-C823, 445 12th Street SW, Washington, DC 20554, regarding OMB Control Numbers 3060-0214, 3060-0844, 3060-0980, and 3060-1065. Please include the applicable OMB Control Number in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on February 27, 2020, for the information collection requirements contained in the modifications to §§ 25.701, 73.3526, 73.3527, 76.64, and 76.66(d). Under 5 CFR part 1320, an agency may not conduct or sponsor a collection of information unless it displays a current, valid OMB Control Number.

No person shall be subject to any penalty for failing to comply with a collection of information subject to the Paperwork Reduction Act that does not display a current, valid OMB Control Number. The OMB Control Numbers for the information collection requirements in §§ 25.701, 73.3526, 73.3527, 76.64, and 76.66(d) are 3060-0214, 3060-0844, 3060-0980, and 3060-1065.

The foregoing notice is required by the Paperwork Reduction Act of 1995, Public Law 104-13, October 1, 1995, and 44 U.S.C. 3507.

The total annual reporting burdens and costs for the respondents are as follows:

OMB Control Number: 3060-0214.

OMB Approval Date: February 27, 2020.

OMB Expiration Date: February 28, 2023.

Title: Sections 73.3526 and 73.3527, Local Public Inspection Files; Sections 73.1212, 76.1701 and 73.1943, Political Files.

Form Number: N/A.

Respondents: Business or other for profit entities; Not for profit institutions; State, Local or Tribal government; Individuals or households.

Number of Respondents and Responses: 23,984 respondents; 62,839 responses.

Estimated Time per Response: 1-52 hours.

Frequency of Response: On occasion reporting requirement, Recordkeeping requirement, Third party disclosure requirement.

Obligation to Respond: Required to obtain or retain benefits. Statutory authority for these collections is contained in Sections 151, 152, 154(i), 303, 307 and 308 of the Communications Act of 1934, as amended.

Total Annual Burden: 2,043,805 hours.

Total Annual Cost: None.

Privacy Act Impact Assessment: The Commission prepared a system of records notice (SORN), FCC/MB-2, “Broadcast Station Public Inspection Files,” that covers the PII contained in the broadcast station public inspection files located on the Commission's website. The Commission will revise appropriate privacy requirements as necessary to include any entities and information added to the online public file in this proceeding.

Nature and Extent of Confidentiality: Most of the documents comprising the public file consist of materials that are not of a confidential nature. Respondents complying with the information collection requirements may request that the information they submit be withheld from disclosure. If confidentiality is requested, such requests will be processed in accordance with the Commission's rules, 47 CFR 0.459.

In addition, the Commission has adopted provisions that permit respondents subject to the information collection requirement for Shared Service Agreements to redact confidential or proprietary information from their disclosures.

Needs and Uses: In 2019, the Commission adopted new rules governing the delivery and form of carriage election notices. Electronic Delivery of MVPD Communications, Modernization of Media Regulation Initiative, MB Docket Nos. 17-105, 17-317, Report and Order and Further Notice of Proposed Rulemaking, FCC 19-69, 2019 WL 3065517 (rel. Jul. 11, 2019). Pursuant to that decision, the public file obligations of full power television broadcasters were slightly modified, although the resulting burdens will be unchanged. The modified information collection requirements are as follows:

47 CFR 73.3526(e)(15) requires that records be retained for the duration of the three-year election period. Commercial television stations must provide an up-to-date email address and phone number for carriage-related questions and respond as soon as is reasonably possible to messages or calls from MVPDs no later than July 31, 2020. Each commercial television station is responsible for the continuing accuracy and completeness of the information furnished.

47 CFR 73.3527(e)(12) requires that noncommercial television stations shall provide an up-to-date email address and phone number for carriage-related questions and respond as soon as is reasonably possible to messages or calls from MVPDs no later than July 31 2020. For stations requesting mandatory carriage, a copy of the request must be placed in its public file and shall retain both the request and relevant correspondence for the duration of any period to which the request applies.

OMB Control Number: 3060-0844.

OMB Approval Date: February 27, 2020.

OMB Expiration Date: February 28, 2023.

Title: Carriage of the Transmissions of Television Broadcast Stations: Section 76.56(a), Carriage of qualified noncommercial educational stations; Section 76.57, Channel positioning; Section 76.61(a)(1)-(2), Disputes concerning carriage; Section 76.64, Retransmission consent.

Form Number: N/A.

Respondents: Business or other for profit entities.

Number of Respondents and Responses: 4,872 respondents; 7,052 responses.

Estimated Time per Response: 0.5-5 hours.

Frequency of Response: On occasion reporting requirement; Third party disclosure requirement.

Obligation to Respond: Required to obtain or retain benefits. The statutory authority for this information collection is contained in Sections 1, 4(i) and (j), 325, 336, 614 and 615 of the Communications Act of 1934, as amended.

Total Annual Burden: 4,471 hours.

Total Annual Cost: No cost.

Privacy Act Impact Assessment: No impact(s).

Nature and Extent of Confidentiality: There is no need for confidentiality with this collection of information.

Needs and Uses: In 2019, the Commission adopted new rules governing the delivery and form of carriage election notices. Electronic Delivery of MVPD Communications, Modernization of Media Regulation Initiative, MB Docket Nos. 17-105, 17-317, Report and Order and Further Notice of Proposed Rulemaking, FCC 19-69, 2019 WL 3065517 (rel. Jul. 11, 2019). Pursuant to that decision, the obligations of broadcasters and cable operators were slightly modified (see 47 CFR 76.64(h) below for the modified rule which requires review and approval from the Office of Management and Budget (OMB)). Under 47 CFR 76.64 the information collection requirements are as follows:

Paragraph (h)(1): Television broadcast station shall place a copy of its election statement, and copies of any election change notices applying to the upcoming carriage cycle, in the station's public file on or before each must-carry/retransmission consent election deadline.

Paragraph (h)(2): Each cable operator must provide an up-to-date email address for carriage election notice submissions concerning its systems and an up-to-date phone number for carriage-related questions. Cable Operators must respond to questions from broadcasters as soon as is reasonably possible.

Paragraph (h)(3): Stations shall send a notice of its election to a cable operator if one or more of that operator's systems is changing its election. The notice shall be sent to the email address provided by the cable system and carbon copied to ElectionNotices@FCC.gov. A notice must include the following: The:

Call sign;

community of license;

DMA where the station is located;

specific change being made in election status;

email address for carriage-related questions;

phone number for carriage-related questions;

name of the appropriate station contact person; and,

if the station changes its election for some systems of the cable operator but not all, the specific cable systems for which a carriage election applies.

(h)(4): Cable operators must respond via email in a reasonable time period and also acknowledge receipt of a television station's election notice.

OMB Control Number: 3060-0980.

OMB Approval Date: February 27, 2020.

OMB Expiration Date: February 28, 2023.

Title: Implementation of the Satellite Home Viewer Improvement Act of 1999: Local Broadcast Signal Carriage Issues and Retransmission Consent Issues, 47 CFR Section 76.66.

Form Number: N/A.

Respondents: Business or other for profit entities.

Number of Respondents and Responses: 3,410 respondents; 4,388 responses.

Estimated Time per Response: 0.5-5 hours.

Frequency of Response: Third party disclosure requirement; On occasion reporting requirement; Once every three years reporting requirement; Recordkeeping requirement.

Obligation to Respond: Required to obtain or retain benefits. The statutory authority for this collection is contained in 47 U.S.C. 325, 338, 339 and 340.

Total Annual Burden: 3,576 hours.

Total Annual Cost: $24,000.

Privacy Act Impact Assessment: No impact(s).

Nature and Extent of Confidentiality: There is no need for confidentiality with this collection of information.

Needs and Uses: In 2019, the Commission adopted new rules governing the delivery and form of carriage election notices. Electronic Delivery of MVPD Communications, Modernization of Media Regulation Initiative, MB Docket Nos. 17-105, 17-317, Report and Order and Further Notice of Proposed Rulemaking, FCC 19-69, 2019 WL 3065517 (rel. Jul. 11, 2019). Pursuant to that decision, the public file obligations of DBS providers, and the notice requirements of broadcasters, were slightly modified. The rule modifications were made to 47 CFR 76.66(d)(1)(ii)-(vi) and 76.66(d)(3)(ii) as indicated above. These modifications need OMB review and approval. They are as follows:

47 CFR 76.66(d)(1)(ii) requires that DBS providers to place an up-to-date email address for carriage election notice submissions. An up-to-date phone number for carriage-related questions in their public file is also required. This information must be kept updated and a response to questions from broadcasters is required expeditiously.

47 CFR 76.66(d)(1)(iii) requires stations to send notice when changing an election. The notices must be sent to the email address provided by the satellite carrier and carbon copied to ElectionNotices@FCC.gov.

47 CFR 76.66(d)(1)(iv) requires that television station's written notification shall include the following:

(A) Call sign;

(B) community of license;

(C) DMA where the station is located;

(D) specific change being made in election status;

(E) email address for carriage-related questions;

(F) phone number for carriage-related questions; and

(G) name of the appropriate station contact person.

47 CFR 76.66(d)(1)(v) requires that a satellite carrier must respond via email as soon as is reasonably possible to acknowledging receipt of a television station's election notice.

47 CFR 76.66(d)(1)(vi) requires within 30 days of receiving a television station's carriage request, a satellite carrier shall notify in writing:

(A) Local television stations it will not carry, along with the reasons for such a decision; and

(B) Local television stations it intends to carry.

47 CFR 76.66(d)(3)(ii) requires that a new television station make its election request in writing. The notification must be sent to the satellite carrier's email address provided by the satellite carrier and carbon copied to ElectionNotices@FCC.gov between 60 days prior to commencing broadcasting and 30 days after commencing broadcasting. The information in paragraph (d)(1)(iv) must be contained in the written notification.

OMB Control Number: 3060-1065.

OMB Approval Date: February 27, 2020.

OMB Expiration Date: February 28, 2023.

Title: Section 25.701 of the Commission's Rules, Direct Broadcast Satellite Public Interest Obligations.

Form Number: N/A.

Respondents: Business or other for profit entities.

Number of Respondents and Responses: 2 respondents; 2 responses.

Estimated Time per Response: 1-10 hours.

Frequency of Response: Recordkeeping requirement; on occasion reporting requirement; one time reporting requirement; annual reporting requirement; Third party disclosure requirement.

Obligation to Respond: Required to obtain or retain benefits. The statutory authority which covers this information collection is contained in Section 335 of the Communications Act of 1934, as amended.

Total Annual Burden: 49 hours.

Total Annual Cost: None.

Privacy Act Impact Assessment: No impacts.

Nature and Extent of Confidentiality: Although the Commission does not believe that any confidential information will need to be disclosed in order to comply with the information collection requirements, applicants are free to request that materials or information submitted to the Commission be withheld from public inspection. (See 47 CFR 0.459).

Needs and Uses: In 2019, the Commission adopted new rules governing the delivery and form of carriage election notices. Electronic Delivery of MVPD Communications, Modernization of Media Regulation Initiative, MB Docket Nos. 17-105, 17-317, Report and Order and Further Notice of Proposed Rulemaking, FCC 19-69, 2019 WL 3065517 (rel. Jul. 11, 2019). Pursuant to that decision, the public file obligations of DBS providers were slightly modified. Therefore, the following information collection requirement needs review and approval from the Office of Management and Budget (OMB):

47 CFR 25.701(f)(6)(i)(D) requires that each satellite carrier shall provide an up-to-date email address for carriage election notice submissions and an up-to-date phone number for carriage-related questions. Each satellite carrier is responsible for the continuing accuracy and completeness of the information furnished. The satellite carrier must respond to questions from broadcasters as soon as is reasonably possible.

Federal Communications Commission.
Marlene Dortch,
Secretary.

[FR Doc. 2020-05170 Filed 3-23-20; 8:45 am]

BILLING CODE 6712-01-P